NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on November 7-9, 2002, in Conference Room T-2B3, 11545 Rockville Pike, Rockville, Maryland. The date of this meeting was previously published in the Federal Register on Monday, November 26, 2001 (66 FR 59034).

Thursday, November 7, 2002

8:30 a.m.-8:35 a.m.: Opening Statement by the ACRS Chairman— The ACRS Chairman will make opening remarks regarding the conduct of the meeting.

8:35 a.m.-10 a.m.: Proposed Resolution of Generic Safety Issue (GSI)-189, “Susceptibility of Ice Condenser and Mark III Containments to Early Failure From Hydrogen Combustion During a Severe Accident” (Open)—The Committee will hear presentations by and hold discussions with representatives of the NRC staff on the results of their additional analyses and proposed recommendations for resolving GSI-189.

10:15 a.m.-11:45 a.m.: Early Site Permit Process (Open)—The Committee will hear presentations by and hold discussions with representatives of the NRC staff regarding Early Site Permit Process.

11:45 a.m.-12:15 p.m.: Peach Bottom License Renewal Application (Open)—Report by the Subcommittee Chairman regarding the October 30, 2002 Plant License Renewal Subcommittee meeting on the license renewal application for the Peach Bottom Nuclear Plant Units 2 and 3.

1:15 p.m.-3:15 p.m.: Westinghouse AP1000 Design (Open)—The Committee will hear presentations by and hold discussions with representatives of Westinghouse regarding the design features of, and test information on, the AP1000 design. The NRC staff will provide a status report regarding its review schedule.

3:30 p.m.-5 p.m.: Risk-Informed Improvements to Standard Technical Specifications (Open)—The Committee will hear presentations by and hold discussions with representatives of the NRC staff regarding staff's progress on risk-informed improvements to Standard Technical Specifications and related matters.

5:15 p.m.-6 p.m.: Report Regarding Recent Operating Events (Open)—The Committee will hear a report by the Cognizant ACRS member regarding recent operating events of interest.

6 p.m.-7 p.m.: Proposed ACRS Reports (Open)—The Committee will discuss proposed ACRS reports on matters considered during this meeting.

Friday, November 8, 2002

8:30 a.m.-8:35 a.m.: Opening Remarks by the ACRS Chairman (Open)—The ACRS Chairman will make opening remarks regarding the conduct of the meeting.

8:35 a.m.-12 Noon: Organizational and Personnel Matters (Closed)—The Committee will discuss organizational and personnel matters as well as the potential improvements to internal ACRS policies and procedures.

Note: This session will be closed pursuant to 5 U.S.C. 552b(c)(2) and (6) to discuss organizational and personnel matters that relate solely to internal personnel rules and practices of ACRS, and information the release of which would constitute a clearly unwarranted invasion of personal privacy.)

1 p.m.-4 p.m.: Safeguards and Security Activities (Closed)—(This session will be held in room T-8E8.) The Committee will hear a report by the cognizant Subcommittee Chairman regarding matters discussed at the October 31, 2002 meeting of the ACRS Subcommittee on Safeguards and Security. In addition, the Committee will discuss the content of a proposed report to the Commission on Safeguards and Security matters.

Note: This session will be closed pursuant to 5 U.S.C. 552b(c)(1) to protect national security information.)

4:15 p.m.-5 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

5 p.m.-5:15 p.m.: Reconciliation of ACRS Comments and Recommendations (Open)—The Committee will discuss the responses from the NRC Executive Director for Operations (EDO) to comments and recommendations included in recent ACRS reports and letters. The EDO responses are expected to be made available to the Committee prior to the meeting.

5:30 p.m.-7 p.m.: Proposed ACRS Reports (Open)—The Committee will discuss proposed ACRS reports.

Saturday, November 9, 2002

8:30 a.m.-10 a.m.: Proposed ACRS Reports (Open)—The Committee will discuss proposed ACRS reports.

10:15 a.m.-12:15 p.m.: Annual ACRS Report on the NRC Safety Research Program (Open)—The cognizant Subcommittee Chairman will report on matters discussed at the November 6, 2002 Safety Research Program Subcommittee meeting, and the Committee will discuss a draft ACRS report to the Commission on the NRC Safety Research Program.

12:30 p.m.-1 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

In accordance with Subsection 10(d) Pub. L. 92-463, I have determined that it is necessary to close portions of this meeting noted above to discuss organizational and personnel matters that relate solely to internal personnel rules and practices of ACRS, and information the release of which would constitute a clearly unwarranted invasion of personal privacy, per 5 U.S.C. 552b(c)(2) and (6), and to protect national security information per 5 U.S.C. 552b(c)(1).

Further information regarding topics to be discussed, whether the meeting has been canceled or rescheduled, the Chairman's ruling on requests for the opportunity to present oral statements, and the time allotted therefor can be obtained by contacting Dr. Sher Bahadur, Associate Director for Technical Support (301-415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: October 22, 2002.
Andrew L. Bates,
Advisory Committee Management Officer.

[FR Doc. 02-27335 Filed 10-25-02; 8:45 am]

BILLING CODE 7590-01-P